Presidential Determination No. 2009-20 of June 12, 2009

Presidential Determination for the Kingdom of Cambodia Under Section 2(b)(2) of the Export-Import Bank Act of 1945, as amended

Memorandum for the Secretary of State

Pursuant to the authority vested in me by section 2(b)(C) of the Export-Import Bank Act of 1945, as amended (12 U.S.C. 635(b)(2)(C)), I hereby determine that the Kingdom of Cambodia has ceased to be a Marxist-Leninist country within the definition of such term in section 2(b)(2)(B)(i) of that Act.

You are authorized and directed to publish this determination in the Federal Register.

THE WHITE HOUSE,

Washington, June 12, 2009

[FR Doc. E9-14494

Filed 6-17-09; 8:45 am]

Billing code 4710-10-P